DEPARTMENT OF COMMERCE

International Trade Administration

[A-570-868]

Notice of Postponement of Final Antidumping Duty Determination: Folding Metal Tables and Chairs From the People's Republic of China

AGENCY: Import Administration, International Trade Administration, Department of Commerce.

EFFECTIVE DATE: December 31, 2001.

FOR FURTHER INFORMATION CONTACT: Helen Kramer or John Drury at (202) 482-0405 and (202) 482-0195, respectively, Import Administration, International Trade Administration, U.S. Department of Commerce, 14th Street and Constitution Avenue, NW, Washington, DC 20230.

Background

This investigation was initiated on May 17, 2001. See Initiation of Antidumping Duty Investigation: Folding Metal Tables and Chairs from the People's Republic of China, 66 FR 28728 (May 24, 2001). The period of investigation (POI) is October 1, 2000 through March 31, 2001. On December 3, 2001, the Department published its preliminary determination. See Notice of Preliminary Determination of Sales at Less Than Fair Value: Folding Metal Tables and Chairs from the People's Republic of China, 66 FR 60185.

Postponement of Final Determination and Extension of Provisional Measures

Section 735(a)(2) of the Act provides that a final determination may be postponed until not later than 135 days after the date of the publication of the preliminary determination if, in the event of an affirmative determination, a request for such postponement is made by exporters who account for a significant proportion of exports of the subject merchandise, or in the event of a negative preliminary determination, a request for such postponement is made by the petitioner. On December 3, 2001, the petitioner, Meco Corporation, requested a 60-day postponement of the final determination to allow sufficient time for the Department to conduct its verifications, issue verification reports, and establish a briefing and hearing schedule that would allow the petitioner a full opportunity to review and comment on the issues in this investigation. On December 5, 2001, respondent Feili Furniture Development Co., Ltd. and Feili (Fujian) Co., Ltd. (“Feili Group”) asked the Department to reject petitioner's request on the grounds that the preliminary determination was affirmative. On December 10, 2001, respondent Shin Crest Pte. Ltd. (“Shin Crest”) requested that the Department postpone the final determination and extend the period that the provisional measures may remain in effect from four months to not more than six months.

In accordance with section 735(a)(2)(A) and 19 CFR 351.210(b)(2)(ii), because (1) our preliminary determination is affirmative, (2) Shin Crest accounts for a significant proportion of exports of the subject merchandise, and (3) no compelling reasons for denial exist, we are granting the postponement request and are postponing the final determination until no later than 135 days after the publication of the preliminary determination in the Federal Register. We are also extending the provisional measures, from four months to six months, in accordance with 19 CFR 351.210(e)(2). Therefore, the final determination would now be due on April 17, 2002. Suspension of liquidation will be extended accordingly.

This notice is published in accordance with section 735(a)(2) of the Act.

Dated: December 20, 2001.
Faryar Shirzad,
Assistant Secretary for Import Administration.

[FR Doc. 01-32115 Filed 12-28-01; 8:45 am]

BILLING CODE 3510-DS-P